DEPARTMENT OF VETERANS AFFAIRS

Fund Availability Under VA's Homeless Providers Grant and Per Diem Program (Rehabilitation)

AGENCY: Department of Veterans Affairs.

ACTION: Notice.

SUMMARY: The Department of Veterans Affairs (VA) is announcing the availability of funds for assistance to rehabilitate currently operational Grant and Per Diem grantee facilities originally funded under VA's Homeless Providers Grant and Per Diem Program (see funding priorities). This Notice of Funding Availability (NOFA) contains information concerning the program, funding priorities, application process, and amount of funding available.

DATES: An original completed and collated grant application (plus three completed collated copies) for assistance under VA's Homeless Providers Grant and Per Diem Program must be received in the Grant and Per Diem Program Office by 4:00 p.m. Eastern Time on Friday, June 28, 2013. Applications may not be sent by facsimile (FAX). In the interest of fairness to all competing applicants, this deadline is firm as to date and hour, and VA will treat as ineligible for consideration any application that is received after the deadline. Applicants should take this practice into account and make early submission of their material to avoid any risk of loss of eligibility brought about by unanticipated delays, computer service outages (in the case of Grants.gov), or other delivery-related problems.

For a Copy of the Application Package: Download directly from VA's Grant and Per Diem Program Web page at: http://www.va.gov/HOMELESS/GPD.asp or http://www.grants.gov/. Questions should be referred to the Grant and Per Diem Program at (toll-free) (877) 332-0334. For additional information on VA's Homeless Providers Grant and Per Diem Program, see Title 38, Code of Federal Regulations (CFR) Part 61.

Submission of Application: An original completed and collated grant application (plus three copies) must be submitted to the following address: VA's Homeless Providers Grant and Per Diem Program Office, 10770 North 46th Street, Suite C-200, Tampa, Florida 33617. Applications must be received in the Grant and Per Diem Program Office by the application deadline. This includes applications submitted through Grants.gov. Applications must arrive as a complete package. Materials arriving separately will not be included in the application package for consideration and may result in the application being rejected or not funded.

FOR FURTHER INFORMATION CONTACT: Mr. Jeffery L. Quarles, Director, VA's Homeless Providers Grant and Per Diem Program, Department of Veterans Affairs, 10770 North 46th Street, Suite C-200, Tampa, Florida 33617; (toll-free) (877) 332-0334.

SUPPLEMENTARY INFORMATION: This NOFA announces the availability of rehabilitation funds under VA's Homeless Providers Grant and Per Diem Program for current operational Grant and Per Diem grantees to rehabilitate their Grant and Per Diem facility. Only one application for funding per operational project number may be awarded. Applicants that have multiple grant projects located at the same facility need only to submit one application with all the affected projects numbers listed. Applicants that have multiple facilities under a single project number only need to submit one application for all of the affected facilities. For example, one project, at one building (facility) = one application. Multiple projects, at one building (facility) = one application. Multiple buildings (facilities), under one project number = one application. Potential applicants may contact the Grant and Per Diem Program Office to determine the number of applications needed.

All potential grantees are advised should they be awarded and accept a capital rehabilitation grant under this NOFA; the real property rehabilitated may be subject to the real property disposition requirements of 38 CFR 49.32.

Previously awarded grant projects that have not exceeded the maximum years of operation listed in 38 CFR 61.67 and Per Diem Only (PDO) Transition in Place projects are not eligible for this funding.

Purpose: VA is pleased to issue this NOFA for VA's Homeless Providers Grant and Per Diem Program as a part of the effort to increase the useful life of the facilities of grantees previously funded under the program. By providing funding to rehabilitate these existing operational grantee facilities, VA expects current Grant and Per Diem grantees may rehabilitate their currently funded Grant and Per Diem project location in order to meet the safety, security, and privacy issues associated with the homeless Veteran populations they serve. VA expects awardees to complete the rehabilitation within 18 months of the award.

Definition: 38 CFR 61.1 contains definitions of terms used in VA's Homeless Providers Grant and Per Diem Program. The District of Columbia, Commonwealth of Puerto Rico, and any territory or possession of the United States, may be considered eligible entities under the definition of “State” in 38 CFR 61.1.

Authority: Funding applied for under this Notice is authorized by title 38 U.S.C. §§ 2011, 2012, 2013, and 2061. VA implements this statutory authority in 38 CFR part 61. Funds made available under this NOFA are subject to the requirements of those regulations.

Inspections and Monitoring Requirements: VA places a great deal of emphasis on the responsibility and accountability of grantees. VA will inspect the facility upon completion of the rehabilitation to determine it was accomplished in accordance with the application submitted and meets all appropriate codes. All grantees are required to ensure that facilities rehabilitated under this NOFA meet the Life Safety Code of the National Fire and Protection Association. Please note, typically the Life Safety Code is more stringent than local or state codes. Each rehabilitation funded program will submit quarterly reports to the Grant and Per Diem Project Development Specialist in a standard business format. These reports may contain current status of the rehabilitation project and estimated times to completion of milestone dates.

Allocation: Approximately $22 million is available for rehabilitation grant awards under this NOFA. All of the funding will begin with the first funding priority and then should not enough eligible projects be funded under the first funding priority, those funds not expended will fall to the second funding priority, and subsequently the third funding priority until all funds are expended. When VA reaches the funding priority where it will expend all of the funding, VA will only then fund applicants in that final funding priority at a percentage of their request. For example, if the first and second priority requests are funded at 100 percent and only $3 million of funding remains and the third funding priority has $6 million in requests, then applicants in the third funding priority would only receive 50 percent of what they requested (see Methodology).

The amount awarded will be not more than 65 percent of the estimated total cost of the rehabilitation activity as stated in the rehabilitation application (this may include architectural fees and engineering fees). The maximum amount of the rehabilitation award will be the lesser of the approved rehabilitation activity award amount and the actual costs to complete the rehabilitation and may not exceed $250,000.00 per project. VA reserves the right to fund only those projects or portions of projects based on the percentage of use by VA and/or based on the actual need of the rehabilitation as determined by VA subject matter experts. As applicants are already operating and have met or exceeded the length of operation from the original grant award they should take note that if the application is successful and rehabilitation funding is awarded under this NOFA they will be subject to the recapture provisions of 38 CFR 61.67(b). Applicants should become familiar with the amount of time the rehabilitated project will have to operate as based on the amount of funding awarded. Operational time for these grants will begin upon rehabilitation completion as verified by VA. Grantees will be required to support their request for rehabilitation funding with detailed rehabilitation plans and budgets for the project (see Application Requirements).

Funding Priorities: VA establishes the following funding priorities in order to support its oldest active original capital and PDO facilities: (1) Operational capital grantees with a minimum 65-percent occupancy rate in the last 6 months (October 1, 2012, through March 31, 2013) and have exceeded the maximum operational time requirements of 38 CFR 61.67 on their previous capital grant; (2) Operational PDO grantees originally funded in 2002, 2003, and 2004 with a minimum 65-percent occupancy rate in the last 6 months (October 1, 2012, through March 31, 2013) and are willing to meet the 7-year operational time requirements of 38 CFR 61.67 for this capital grant; (3) Operational PDO grantees originally funded in 2007, 2008, and 2010 with a minimum 65-percent occupancy rate in the last 6 months (October 1, 2012, through March 31, 2013) and are willing to meet the 7-year operational time requirement of 38 CFR 61.67 for this capital grant. For all grantees, the operational time for this grant will begin upon VA verification that the rehabilitation is complete.

Potential applicants may use the chart below or contact the VA National Grant and Per Diem Program Office to determine if the operational time requirement for the previous capital grant has been met prior to application and/or to determine the new amount of operational time required. For capital grantees, the years of operation begin on the date the original grant was awarded per diem. For PDO grantees, as there was no original operational time commitment under these awards, the years of operation will begin upon VA verification of the successful completion of the rehabilitation.

Grant amount (dollars in thousands) | Years of operation
0-250 | 7
251-500 | 8
501-750 | 9
751-1,000 | 10
1,001-1,250 | 11
1,251-1,500 | 12
1,501-1,750 | 13
1,751-2,000 | 14
2,001-2,250 | 15
2,251-2,500 | 16
2,501-2,750 | 17
2,751-3,000 | 18
Over 3,000 | 20

For those applicants that have multiple projects in the same facility, the project number with the largest number of beds will be used to determine the funding priority and occupancy rate under this NOFA.

For those applicants that have a capital grant that has not yet exceeded the maximum operational time listed in 38 CFR 61.67(b) but also have a PDO grant not subject to recapture in the same site, the applicant should apply under the PDO. However, VA would only pay for rehabilitation specific to the PDO beds and prorate common areas (kitchen, roof) used by both.

Funding priority 1. VA is offering the opportunity for rehabilitation funding to operational capital grantees with a minimum 65-percent occupancy rate in the last 6 months (October 1, 2012, through March 31, 2013) and have exceeded the operational time requirements of 38 CFR 61.67 on their previous capital grant and are willing to meet the 7-year operational time requirement of 38 CFR 61.67 for this capital grant. Should not enough eligible projects be funded under the first funding priority, funds not expended in this priority will fall to the second funding priority.

Funding priority 2. VA is offering the opportunity for rehabilitation funding to operational PDO grantees originally funded in 2002, 2003, and 2004 with a minimum 65-percent occupancy rate in the last 6 months (October 1, 2012, through March 31, 2013) and are willing to meet the 7-year operational time requirements of 38 CFR 61.67 for this capital grant. Should not enough eligible projects be funded under the second funding priority, funds not expended in this priority will fall to the third funding priority.

Funding priority 3. VA is offering the opportunity for rehabilitation funding to operational PDO grantees originally funded in 2007, 2008, and 2010 with a minimum 65-percent occupancy rate in the last 6 months (October 1, 2012, through March 31, 2013) and are willing to meet the 7-year operational time requirements of 38 CFR 61.67 for this capital grant. Should funding still be available, the third priority will be funded until funding is expended (approximately $22 million).

Scope of Rehabilitation: VA will allow for the following rehabilitation activities that increase the useful life of the facility:

1. Emergent Need Activities: Those applications that document and demonstrate the overall proposed rehabilitation will correct a condition of the facility that may immediately affect the health or safety of participants such as:

a. Remedies for Americans with Disabilities Compliance (e.g., access ramps, wider doors and hallways, bedrooms, and restrooms).

b. Remedies for Life/Safety (e.g., egress, smoke barrier, fire walls/doors, fire alarms, seismic improvements, and fire suppression systems).

2. Significant Need Activities: Those applications that document and demonstrate the overall proposed rehabilitation will correct a condition of the facility that may significantly affect the immediate privacy, health, or safety of participants such as:

a. Building Systems—Utilities and Features (e.g., electrical, heating, ventilation, air conditioning (HVAC), boiler, roof, elevators, locks, security fencing, security monitoring systems, and energy efficient items such as windows).

b. Clinical/Participant Support Facilitation (e.g., kitchens, dining facilities, laundry, counseling facilities, bedrooms, and bathrooms).

3. Operational Need: Those applications that document and demonstrate the overall proposed rehabilitation of a condition of the facility will increase the operational capability of the grantee to address the privacy, health, or safety of participants such as: General Rehabilitations (e.g., minor repairs or improvements such as painting, flooring, or other aesthetical enhancements to the facility).

Rehabilitation Activities Not Allowed Under this NOFA: Landscaping, fencing, equipment other than allowed above, and furniture. Those rehabilitation activities deemed outside of the Scope of Rehabilitation by VA subject matter experts will not be funded.

Payments: Under this NOFA, VA will make rehabilitation payments in a method consistent with VA policy. Rehabilitation payments will be paid only for allowable costs as specified under the Office of Management and Budget Circulars for Grants Management for the rehabilitation activities outlined in this NOFA. All payment specifics will be given to the grantee at the time of award.

Application: Applicants should be careful to complete the proper application package. Submission of the incorrect or incomplete application package will result in the application being rejected at threshold. The package will consist of two parts. The first part will be the standard forms required for rehabilitation grants to include all required forms and certifications and will be provided by VA on the Grant and Per Diem Web site at http://www.va.gov/HOMELESS/GPD.asp. They are as follows:

Application for Federal Assistance (Standard Form 424)

Application Receipt Form (VA Form 10-0361A)

General Assurances (VA Form 10-0361 GC)

Certification Regarding Debarment, Suspension and other Responsibility Matters—Primary Transactions (VA Form 10-0361)

Certification Regarding Debarment, Suspension and other Responsibility Matters—Lower Tier Transactions (VA Form 10-0361)

Certification Regarding Debarment, Suspension, Ineligibility and Voluntary Exclusion—Lower Tier Covered Transactions (VA Form 10-0361)

Certification Drug Free Workplace (VA Form 10-0361)

Certification Regarding Lobbying (VA Form 10-0361)

Standard Form 424C, Construction Budget

Standard Form 424D, Construction Assurances

The second part of the application will be provided by applicants and consist of a project narrative and rehabilitation supporting documentation (see Application Requirements). Selections will be made based on the criteria described in the application, VA regulations, and NOFA. Applicants who are conditionally selected will be notified of any additional information needed to confirm or clarify information provided in the application. Applicants will then be notified of the deadline to submit such information. If an applicant is unable to meet any conditions for grant award within the specified time frame, VA reserves the right to not award funds and to use the funds available for other grant and per diem applicants.

Application Requirements

(a) This section sets forth provisions for obtaining a rehabilitation capital grant under 38 U.S.C. 2011. In addition to being an eligible entity, an applicant must have previously received a grant under VA's Homeless Providers Grant and Per Diem Program, be operational, and meet the requirements of the funding priorities above.

(b) As to be eligible under this NOFA, applicants must be operational and therefore have previously provided documentation of Accounting System Certification and Evidence of Private Non-Profit Status. Therefore, VA will use the applicants existing documentation for this purpose.

Project Narrative and Supporting Documentation: Applicants will be required to provide a narrative of the proposed project rehabilitation. The responses should be labeled with the same titles and order of this NOFA. This is to be completed in a normal business format on not more than 15 double-spaced typed single sided pages in Arial 12 font.

The narrative should address the following:

a. Original grant project number or number(s) affected by the proposed rehabilitation;

b. Address of the site(s) to rehabilitated;

c. Budget and matching costs of the renovation:

(1) Total rehabilitation cost (this is the amount requested from VA plus the remaining balance of funds required to complete rehabilitation);

(2) Cost for any areas to be rehabilitated that are not Grant and Per Diem specific (unallowable to VA costs);

(3) Amount requested to VA for Grant and Per Diem rehabilitation (may not exceed 65 percent of the cost of the total Grant and Per Diem areas to be renovated);

(4) Amounts and type of matching funds as applicable, including:

(i) Applicant Cash;

(ii) Third Party Cash;

(iii) Third Party Non-Cash;

(iv) Volunteer Time; and

(v) Total of All Matching Funds.

(5) Supporting Documentation of Match: Applicants must provide firm documentation of matching resources at the time of application on their letterhead and donors must use their appropriate organization letterhead stationary in the following format. Failure to have your match at the time of application will result in your application be determined ineligible for funding.

(i) Applicant Cash Resources: If this proposal is funded, applicant will commit $___ of its own funds for ___ to be made available to VA's Homeless Providers Grant and Per Diem program. The funds will be available on ___.

(ii) Third Party Cash: If this proposal is funded, ___ will commit $___ to ___ for ___ to be made available to VA's Homeless Providers Grant and Per Diem program. These funds will be made available on ___.

(iii) Third Party Non-Cash: If this proposal is funded, ___ will commit to make available___ valued at $___ to VA's Homeless Providers Grant and Per Diem program proposed by ___. These resources will be made available to VA's Homeless Providers Grant and Per Diem program from ___ to ___.

(iv) Volunteer Time: If this proposal is funded, ___ will commit to provide ___ hours of volunteer time to provide ___ to VA's Homeless Providers Grant and Per Diem program proposed by ___. The value of these services is $___ based on a rate of ___.

(v) Contributed Materials: If this proposal is funded, ___ commits ___ for VA's Homeless Providers Grant and Per Diem program. The estimated value of this material is $___.

d. The current condition of the proposed area or item to be rehabilitated; narrative description coupled with color photos;

e. Specifics on the rehabilitation work to be performed;

f. Urgency of the rehabilitation (how soon does it need to be accomplished);

g. Adequacy of the rehabilitation (is this the best method to complete the rehabilitation and why);

h. Benefit of the rehabilitation to the facility and to program participants;

i. Feasibility of the rehabilitation as compared to moving to another site;

j. Justification on why the work needs to be performed;

k. Major Milestones (Timeline) to completion; and

l. The following documents to support the narrative:

i. Plan: A plan from an architect, contractor, or other building professional that provides estimated costs for the proposed design;

ii. Schematics: Submit one set of line drawings showing the basic layout of the existing area to be rehabilitated and the area as it would be following the rehabilitation. Show total floor and room areas, designation of all spaces, and size of all areas and rooms. It is not necessary to show mechanical systems detail in the schematic drawings.

iii. When Plans Not Needed: In those cases where the rehabilitation proposed does not involve the creation of plans, i.e., changing or installing locks or painting. Items (i) and (ii) are not required. If applicants have questions they should contact the VA National Grant and Per Diem Program Office.

Application Scoring: Applications under this NOFA will not be scored. Rather VA will provide funding to all eligible applicants as described in the Methodology section of this NOFA until funding is expended.

Methodology: VA will review the rehabilitation grant applications in response to this NOFA as follows: VA will group the applicants into the funding priorities categories as applicable. VA will review to ensure the proposed rehabilitation activities meet the Scope of Rehabilitation activities as stated in the NOFA. VA will request further information and provide a time for delivery of that information from the applicant as needed in order to ensure the rehabilitation meets the governing laws, regulations, and NOFA. Funding will begin with the first funding priority and then should not enough eligible projects be funded under the first funding priority, those funds not expended will fall to the second funding priority, and subsequently the third funding priority until all funds are expended. When VA reaches the funding priority where it will expend all of the funding, VA will only then fund applicants in that final funding priority at a percentage of their request. For example, if the first and second priority requests are funded at 100 percent and only $3 million of funding remains and the third funding priority has $6 million in requests, then applicants in the third funding priority would only receive 50 percent of what they requested.

Prior to executing a funding agreement, VA will contact the applicants and make known the amount of proposed funding, verify the applicant still would like the funding, and verify the match documentation. Once VA verifies the match documentation, VA will execute an agreement and make payments to the grant recipient in accordance with 38 CFR 61.61 and other applicable provisions of this NOFA.

Signing Authority

The Secretary of Veterans Affairs, or designee, approved this document and authorized the undersigned to sign and submit the document to the Office of the Federal Register for publication electronically as an official document of the Department of Veterans Affairs. Jose D. Riojas, Interim Chief of Staff, Department of Veterans Affairs, approved this document on May 9, 2013 for publication.

Dated: May 10, 2013.
Robert C. McFetridge,
Director of Regulation Policy and Management, Office of General Counsel, Department of Veterans Affairs.

[FR Doc. 2013-11584 Filed 5-15-13; 8:45 am]

BILLING CODE 8320-01-P